DEPARTMENT OF THE INTERIOR

Fish and Wildlife Service

[FWS-HQ-ES-2020-N085; FF09E42000 189 FXES11130900000]

Endangered and Threatened Species; Issuance of Enhancement of Survival and Incidental Take Permits for Safe Harbor Agreements, Candidate Conservation Agreements, Habitat Conservation Plans, and Recovery Activities, January 1, 2019, Through December 31, 2019; Correction

AGENCY: Fish and Wildlife Service, Interior.

ACTION: Notice; correction.

SUMMARY: We, the U.S. Fish and Wildlife Service, published a document in the April 30, 2020, Federal Register that provided a list of permits issued under the Endangered Species Act. We inadvertently made unsubstantive errors, which we correct via this notice.

FOR FURTHER INFORMATION CONTACT: Amanda Murnane, via phone at 703-358-2469,viaemailatAmanda_Murnane@fws.gov, or via the Federal Relay Service at 800-877-8339.

SUPPLEMENTARY INFORMATION: We, the U.S. Fish and Wildlife Service, published a document in the April 30, 2020, Federal Register that provided a list of permits we issued under the Endangered Species Act for Candidate Conservation Agreements with Assurances, Safe Harbor Agreements, Habitat Conservation Plans (HCPs), and Recovery Permits for calendar year 2019. We inadvertently made an error, which we correct via this notice.

Corrections

In FR Doc. 2020-09176, appearing at 85 FR 23992 in the issue of Thursday, April 30, 2020, make the following three corrections in the table on page 23994:

Remove HCP permit number TE34898D for the Pueblo of Santa Clara; no permit has been issued.

Remove permits with numbers TE33765D (VALERO PARTNERS WYNNEWOOD, LLC) and TE113500 (BASTROP COUNTY; MR. PAUL PAPE) from the table. Both are duplicate entries of other issued permits.

All other items in the original notice (April 30, 2020; 85 FR 23992) are correct as printed.

Gary Frazer,
Assistant Director for Ecological Services.

[FR Doc. 2020-14188 Filed 6-30-20; 8:45 am]

BILLING CODE 4333-15-P